NATIONAL SCIENCE FOUNDATION

Physics Proposal for Physics; Notice of Meeting

In accordance with the Federal Advisory Committee Act (Pub. L. 92-463, as amended), the National Science Foundation announces the following meeting.

Name: Syracuse University Site Visit, Proposal Review Panel for Physics (1208).

Date and Time: Wednesday, January 14, 2009; 8:30 a.m.-6 p.m.; and Thursday, January 15, 2009, 8:30 a.m.-3 p.m.

Place: Syracuse University.

Type of Meeting: Partially Closed.

Contact Person: Dr. James Reidy, Program Director for Elementary Particle Physics, National Science Foundation, 4201 Wilson Blvd., Arlington, VA 22230. Telephone: (703) 292-7392.

Purpose of Meeting: To provide an evaluation concerning the LHCb and CLEO-c proposal submitted to the National Science Foundation for support.

Agenda:

Wednesday, January 14

8:30 a.m.-9 a.m. Executive Session (Closed).

9 a.m.-11:30 a.m. Overview and presentations (Open).

11:30 a.m.-12 p.m. Executive Session (Closed).

1 a.m.-4 p.m. Presentation by Faculty (Open).

4 p.m.-5 p.m. Executive Sessions and discussion with the High Energy Physics (Closed).

Thursday, January 15

8 a.m.-8:30 a.m. Executive Session (Closed).

8:30 a.m.-10:30 a.m. Video from CERN, tour of lab/facilities (Open).

11:15 a.m.-2:30 p.m. Meetings with Faculty, students, and executive session (Closed).

2:30 p.m.-3 p.m. Close-out session (Open).

Reason for Closing: The proposal contains proprietary or confidential material, including technical information on personnel. These matters are exempt under 5 U.S.C. 552b(c)(2)(4) and (6) of the Government in the Sunshine Act.

Dated: December 22, 2008.
Susanne Bolton,
Committee Management Officer.

[FR Doc. E8-30879 Filed 12-29-08; 8:45 am]

BILLING CODE 7555-01-P